FEDERAL RESERVE SYSTEM

Agency Information Collection Activities: Announcement of Board Approval Under Delegated Authority and Submission to OMB

AGENCY: Board of Governors of the Federal Reserve System

SUMMARY: SUMMARY: Background.

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-I's and supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer -- Michelle Long-- Division of Research and Statistics, Board of Governors of the Federal Reserve System, Washington, DC 20551 (202-452-3829).

OMB Desk Officer -- Mark Menchik -- Office of Information and Regulatory Affairs, Office of Management and Budget, New Executive Office Building, Room 10235, Washington, DC 20503, or email to mmenchik@omb.eop.gov.

Final Approval Under OMB Delegated Authority to Conduct the Following Survey:

Report title: 2007 Survey of Consumer Finance

Agency form number: FR 3059

OMB control number: 7100-0287

Frequency: One-time survey

Reporters: U.S. families

Annual reporting hours: 7,500 hours

Estimated average hours per response: Pretest and Survey, 75 minutes each

Number of respondents: Pretest, 400 families; Survey 5,600 families

General description of report: This information collection is voluntary. The Federal Reserve's statutory basis for collecting this information is section 2A, 14, and 19 of the Federal Reserve Act (12 U.S.C. 225(a), 353, and 461); the Bank Merger Act (12 U.S.C. 1828(c)); and sections 3 and 4 of the Bank Holding Company Act (12 U.S.C. 1842 and 1843). The names and other characteristics that would permit identification of respondents are deemed confidential by the Board and are exempt from disclosure pursuant to exemption 6 in the Freedom of Information Act (5 U.S.C. 552(b)(6)).

Abstract: For many years, the Board has sponsored consumer surveys to obtain information on the financial behavior of households. The 2007 Survey of Consumer Finance (SCF) will be the latest in a triennial series, which began in 1983, that provides comprehensive data for U.S. families on the distribution of assets and debts, along with related information and other data items necessary for analyzing financial behavior. These are the only surveys conducted in the United States that provide such financial data for a representative sample of households. Data for the SCF are collected by interviewers using a computer program. While some questions may be deleted and others modified, only minimal changes will be made to the questionnaire in order to preserve the time series properties of the data. The pretest would be conducted later this year and the survey would be conducted between May 2007 and January 2008.

Current Actions: On July 11, 2006, the Federal Reserve published a notice in the Federal Register (71 FR 39118) requesting public comment for 60 days on the proposal to conduct the FR 3059. The comment period for this notice expired on September 11, 2006. No comments were received.

Board of Governors of the Federal Reserve System, September 20, 2006.
Jennifer J. Johnson
Secretary of the Board.

[FR Doc. E6-15695 Filed 9-25-06; 8:45 am]

BILLING CODE 6210-01-S